ENVIRONMENTAL PROTECTION AGENCY

40 CFR Parts 110 and 300

[EPA-HQ-OPA-2006-0090; FRL-4526-01-OLEM]

RIN 2050-AE87

National Oil and Hazardous Substances Pollution Contingency Plan; Product Schedule Listing and Authorization of Use Requirements

Correction

In rule document 2023-11904 beginning on page 38280 in the issue of Monday, June 12, 2023 make the following corrections:

Appendix C to Part 300

1. On page 38339, Equation 1 should read as follows:

2. On page 38340, Equation 2 should read as follows:

3. On the same page, Equation 3 should read as follows:

4. On page 38341, Equation 4 should read as follows:

5. On the same page, Equation 5 should read as follows:

6. On the same page, Equation 6 should read as follows:

7. On the same page, Equation 7 should read as follows:

8, On the same page, Equation 8 should read as follows:

9. On page 38342, Equation 9 and the first two words following it should read as follows:

where (%OD)

10. On the same page, Equation 10 should read as follows:

[FR Doc. C1-2023-11904 Filed 6-27-23; 8:45 am]

BILLING CODE 0099-10-D